DEPARTMENT OF ENERGY

Federal Energy Regulatory Commission

[Docket No.CP07-389-000]

Southern Natural Gas Company; Notice of Application

May 30, 2007.

Take notice that on May 22, 2007, Southern Natural Gas Company (Southern), 1900 Fifth Avenue North, Birmingham, Alabama 35203, filed in Docket No. CP07-389-000, an application pursuant to section 7 (b) of the Natural Gas Act (NGA) and Part 157 of the Commission's Regulations, for authorization to abandon by sale to STL Pipeline, LLC (STL), certain transmission pipelines and related appurtenant facilities located in federal waters offshore Texas. Southern also requests a determination that the facilities to be abandoned will be considered non-jurisdictional facilities under Section 1(b) of the NGA upon the closing of the sale, all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Southern seeks Commission authorization of its proposed abandonment by sale to STL of 5.98 miles of 10.75-inch transmission pipelines and appurtenant facilities in the Matagorda Island area in federal waters offshore Texas (Matagorda Island Facilities). Also included in the sale to STL is 2.02 miles of 6.625-inch pipeline (Matagorda 657 Line) that will be abandoned by sale pursuant to Southern's blanket certificate issued in Docket No. CP82-406-000.

Southern states that the proposed abandonment by sale to STL will not affect the capacity of Southern's pipeline system or impact the availability of gas supplies on its system. These facilities do not currently provide firm transportation services, only interruptible. Southern states that the customers obtaining interruptible transportation (IT) from these facilities during the past 12 months have consented to the proposed abandonment by sale.

Southern also requested in its application, a determination from the Commission that both the Matagorda Island Facilities and the Matagorda 657 Line will be non-jurisdictional gathering facilities under 1(b) of the NGA upon closing of the sale to STL. Southern states that the Matagorda Island Facilities and the Matagorda 657 Line meet the standards set forth by the “Primary Function Test” established in Farmland Industries Inc., 23 FERC ¶ 61,063 (1983) and the “Modified Primary Function” Test established in Amerada Hess Corporation, 52 FERC ¶ 61,268 (1990).

Any questions regarding this application should be directed to John C. Griffin, Senior Counsel, Post Office Box 2563, Birmingham, Alabama 35202-2563, at (205) 325-7133.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a) (1) (iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: June 20, 2007.

Kimberly D. Bose,
Secretary.

[FR Doc. E7-10814 Filed 6-5-07; 8:45 am]

BILLING CODE 6717-01-P